DEPARTMENT OF THE INTERIOR

National Park Service

[NPS-AKRO-ANIA-DENA-CAKR-LACL-KOVA-WRST-GAAR-34923; PPAKAKROR4; PPMPRLE1Y.LS0000]

Public Meetings of the National Park Service Alaska Region Subsistence Resource Commission Program

AGENCY: National Park Service, Interior.

ACTION: Meeting notice.

SUMMARY: The National Park Service (NPS) is hereby giving notice that the Aniakchak National Monument Subsistence Resource Commission (SRC), the Denali National Park SRC, the Cape Krusenstern National Monument SRC, the Lake Clark National Park SRC, the Kobuk Valley National Park SRC, the Wrangell-St. Elias National Park SRC, and the Gates of the Arctic National Park SRC will meet as indicated below.

DATES: The Aniakchak National Monument SRC will meet in-person and via teleconference from 1 p.m. to 5 p.m. or until business is completed on Wednesday, March 1, 2023. The alternate meeting date is Wednesday, March 8, 2023, from 1 p.m. to 5 p.m. or until business is completed at the same location and via teleconference.

The Denali National Park SRC will meet via teleconference from 1 a.m. to 5 p.m. or until business is completed on Wednesday, January 11, 2023. The alternate meeting date is Wednesday, January 18, 2023, from 1 a.m. to 5 p.m. or until business is completed only via teleconference.

The Cape Krusenstern National Monument SRC will meet in-person and via teleconference from 1 p.m. to 5 p.m. on Wednesday, February 22, 2023, and from 9 a.m. to 12 p.m. or until business is completed on Thursday, February 23, 2023. The alternate meeting dates are Monday, February 27, 2023, from 1 p.m. to 5 p.m., and Tuesday, February 28, 2023, from 9 a.m. to 12 p.m. or until business is completed at the same location and via teleconference.

The Lake Clark National Park SRC will meet in-person and via teleconference, from 1 p.m. to 4 p.m. or until business is completed on Wednesday, March 29, 2023. The alternate meeting date is Wednesday, April 5, 2023, from 1 p.m. to 4 p.m. or until business is completed at the same location and via teleconference.

The Kobuk Valley National Park SRC will meet in-person and via teleconference from 1 p.m. to 5 p.m. on Thursday, February 23, 2023, and from 9 a.m. to 12 p.m. on Friday, February 24, 2023, or until business is completed. The alternate meeting dates are Tuesday, February 28, 2023, from 1 p.m. to 5 p.m., and Wednesday, March 1, 2023, from 9 a.m. to 12 p.m. or until business is completed at the same location and via teleconference.

The Wrangell-St. Elias National Park SRC will meet in-person and via teleconference from 9 a.m. to 5 p.m. or until business is completed on both Thursday, February 23, 2023, and Friday, February 24, 2023. If business is completed on February 23, 2023, the meeting will adjourn, and no meeting will take place on February 24, 2023. The alternate meeting dates are Tuesday, March 7, 2023, and Wednesday, March 8, 2023, from 9 a.m. to 5 p.m., or until business is completed at the same location and via teleconference.

The Gates of the Arctic National Park SRC will meet in-person and via teleconference from 9 a.m. to 5 p.m. or until business is completed on both Tuesday, March 21, 2023, and Wednesday, March 22, 2023. The alternate meeting dates are Tuesday, April 18, 2023, from 9 a.m. to 5 p.m., and Wednesday, April 19, 2023, from 9 a.m. to 5 p.m. or until business is completed at the same location and via teleconference.

ADDRESSES: The Aniakchak National Monument SRC will meet in-person at the Port Heiden Community Building, 2200 James Street, Port Heiden AK 99549 and via teleconference. Teleconference participants must call the NPS office at (907) 246-2121 prior to the meeting to receive teleconference passcode information. For more detailed information regarding these meetings, or if you are interested in applying for SRC membership, contact Designated Federal Official Mark Sturm, Superintendent, at (907) 246-2120 or via email at mark_sturm@nps.gov, or Troy Hamon, Subsistence Coordinator, at (907) 246-2121 or via email at troy_hamon@nps.gov, or Eva Patton, Federal Advisory Committee Group Federal Officer, at (907) 644-3601 or via email at eva_patton@nps.gov.

The Denali National Park SRC will meet only via teleconference. Teleconference participants must call the NPS office at (907) 644-3604 prior to the meeting to receive teleconference passcode information. For more detailed information regarding these meetings, or if you are interested in applying for SRC membership, contact Designated Federal Official Brooke Merrell, Superintendent, at (907) 683-9627 or via email at brooke_merrell@nps.gov, or Amy Craver, Subsistence Coordinator, at (907) 644-3604 or via email at amy_craver@nps.gov, or Eva Patton, Federal Advisory Committee Group Federal Officer, at (907) 644-3601 or via email at eva_patton@nps.gov.

The Cape Krusenstern National Monument SRC will meet in-person at the Northwest Arctic Heritage Center, 171 3rd Avenue, Kotzebue, AK 99752 and via teleconference. Teleconference participants must call the NPS office at (907) 442-8342 prior to the meeting to receive teleconference passcode information. For more detailed information regarding this meeting or if you are interested in applying for SRC membership, contact Designated Federal Official Ray McPadden, Superintendent, at (907) 442-3890 or via email at raymond_mcpadden@nps.gov, or Justin Junge, Acting Integrated Resources Program Manager, at (907) 442-8331 or via email at justin_junge@nps.gov, or Eva Patton, Federal Advisory Committee Group Federal Officer, at (907) 644-3601 or via email at eva_patton@nps.gov.

The Lake Clark National Park SRC will meet in-person at the Nondalton Community Center, 109 Main Street, Nondalton, AK 99640 and via teleconference. Teleconference participants must call the NPS office at (907) 644-3648 prior to the meeting to receive teleconference passcode information. For more detailed information regarding this meeting or if you are interested in applying for SRC membership, contact Designated Federal Official Susanne Green, Superintendent, at (907) 644-3627 or via email at susanne_green@nps.gov, or Liza Rupp, Subsistence Manager, at (907) 644-3648 or via email at elizabeth_rupp@nps.gov, or Eva Patton, Federal Advisory Committee Group Federal Officer, at (907) 644-3601 or via email at eva_patton@nps.gov.

The Kobuk Valley National Park SRC will meet in-person at the Northwest Arctic Heritage Center, 171 3rd Avenue, Kotzebue, AK 99752 and via teleconference. Teleconference participants must call the NPS office at (907) 442-8342 prior to the meeting to receive teleconference passcode information. For more detailed information regarding this meeting or if you are interested in applying for SRC membership, contact Designated Federal Official Ray McPadden, Superintendent, at (907) 442-3890 or via email at raymond_mcpadden@nps.gov, or Justin Junge, Acting Integrated Resources Program Manager, at (907) 442-8331 or via email at justin_junge@nps.gov, or Eva Patton, Federal Advisory Committee Group Federal Officer, at (907) 644-3601 or via email at eva_patton@nps.gov.

The Wrangell-St. Elias National Park SRC will meet in-person at the Copper Center Visitor Center Complex, Wrangell-St. Elias National Park and Preserve, Mile 106.8 Richardson Highway, Copper Center, AK 99573 and via teleconference. Teleconference participants must contact Subsistence Coordinator, Barbara Cellarius, at (907) 822-7236 or wrst_subsistence@nps.gov prior to the meeting to receive teleconference passcode information. For more detailed information regarding these meetings, or if you are interested in applying for SRC membership, contact Designated Federal Official Ben Bobowski, Superintendent, at (907) 822-5234 or via email at ben_bobowski@nps.gov, or Barbara Cellarius, Subsistence Coordinator, at (907) 822-7236 or via email at barbara_cellarius@nps.gov, or Eva Patton, Federal Advisory Committee Group Federal Officer, at (907) 644-3601 or via email at eva_patton@nps.gov.

The Gates of the Arctic National Park SRC will meet in-person at the Sophie Station Hotel, Zach's Boardroom, 1717 University Avenue, Fairbanks, Alaska 99709 and via teleconference. Teleconference participants must call the NPS office at (907) 455-0639 prior to the meeting to receive teleconference passcode information. For more detailed information regarding this meeting or if you are interested in applying for SRC membership, contact Designated Federal Official Mark Dowdle, Superintendent, at (907) 455-0614 or via email at mark_dowdle@nps.gov, or Marcy Okada, Subsistence Coordinator, at (907) 455-0639 or via email at marcy_okada@nps.gov, or Eva Patton, Federal Advisory Committee Group Federal Officer, at (907) 644-3601 or via email at eva_patton@nps.gov.

In the event that an in-person meeting is not feasible or advisable, all meetings will be held solely via teleconference.

SUPPLEMENTARY INFORMATION: The NPS is holding meetings pursuant to the Federal Advisory Committee Act (5 U.S.C. appendix 1-16). The NPS SRC program is authorized under title VIII, section 808 of the Alaska National Interest Lands Conservation Act (16 U.S.C. 3118).

SRC meetings are open to the public and will have time allocated for public testimony. The public is welcome to present written or oral comments to the SRC. SRC meetings will be recorded and the meeting minutes will be certified by the Superintendent and available upon request 90 days after the meeting.

Meeting Accessibility/Special Accommodations: Please make requests in advance for sign language interpreter services, assistive listening devices, or other reasonable accommodations. We ask that you contact the person listed in the (see ADDRESSES) section of this notice at least seven (7) business days prior to the meeting to give the Department of the Interior sufficient time to process your request. All reasonable accommodation requests are managed on a case-by-case basis. Individuals in the United States who are deaf, deafblind, hard of hearing, or have a speech disability may dial 711 (TTY, TDD, or TeleBraille) to access telecommunications relay services. Individuals outside the United States should use the relay services offered within their country to make international calls to the point-of-contact in the United States.

Purpose of the Meeting: The agenda may change to accommodate SRC business. The proposed meeting agenda for each meeting includes the following:

1. Call to Order—Confirm Quorum

2. Welcome and Introduction

3. Review and Adoption of Agenda

4. Approval of Minutes

5. Superintendent's Welcome and Review of the SRC Purpose

6. SRC Membership Status

7. SRC Chair and Members' Reports

8. Superintendent's Report

9. Old Business

10. New Business

11. Federal Subsistence Board Update

12. Alaska Boards of Fish and Game Update

13. National Park Service Staff Reports

a. Superintendent/Ranger Reports

b. Resource Manager's Report

c. Subsistence Manager's Report

14. Public and Other Agency Comments

15. Work Session

16. Set Tentative Date and Location for Next SRC Meeting

17. Adjourn Meeting

SRC meeting location and date may change based on inclement weather or exceptional circumstances, including public health advisories or mandates. If the meeting date and location are changed, the Superintendent will issue a press release and use local newspapers and/or radio stations to announce the rescheduled meeting.

Public Disclosure of Comments: Before including your address, phone number, email address, or other personal identifying information in your comment, you should be aware that your entire comment−including your personal identifying information−may be made publicly available at any time. While you can ask us in your comment to withhold your personal identifying information from public review, we cannot guarantee that we will be able to do so.

(Authority: 5 U.S.C. appendix 2)

Alma Ripps,
Chief, Office of Policy.

[FR Doc. 2022-26969 Filed 12-12-22; 8:45 am]

BILLING CODE 4312-52-P